DEPARTMENT OF COMMERCE

International Trade Administration

[A-570-983]

Drawn Stainless Steel Sinks From the People's Republic of China: Notice of Court Decision Not in Harmony With Final Determination of Antidumping Duty Investigation

AGENCY: Enforcement and Compliance, International Trade Administration, Department of Commerce.

SUMMARY: On June 27, 2014, the United States Court of International Trade (“CIT” or “Court”) issued its final judgment affirming the Department of Commerce's (“the Department”) final results of redetermination pursuant to remand of the final determination of the antidumping duty investigation concerning drawn stainless steel sinks from the People's Republic of China (“PRC”).¹ Consistent with the decision of the Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's final determination ² and is amending the final determination of the investigation with respect to the margin assigned to Shenzen Kehuaxing Industrial Ltd. (“Kehuaxing”), an exporter and producer of subject merchandise.

¹ See Artisan Mfg. Corp. v. United States, Ct. No. 13-00169 (CIT, June 27, 2014) (Court Order affirming remand redetermination).

² See Drawn Stainless Steel Sinks From the People's Republic of China: Investigation, Final Determination, 78 FR 13019 (February 26, 2013), amended by Drawn Stainless Steel Sinks from the People's Republic of China: Amended Final Determination of Sales at Less Than Fair Value and Antidumping Duty Order, 78 FR 21592 (April 11, 2013) (collectively, “Final Determination”).

DATES: Effective Date: July 7, 2014.

FOR FURTHER INFORMATION CONTACT: Mandy Mallott, Office III, Enforcement and Compliance, International Trade Administration, U.S. Department of Commerce, 14th Street and Constitution Avenue NW., Washington, DC 20230; telephone: (202) 482-6430.

SUPPLEMENTARY INFORMATION: Subsequent to the publication of the Final Determination, Kehuaxing and its importer, Artisan Manufacturing Corporation (“Artisan”), filed a complaint with the CIT to challenge the rate assigned to Kehuaxing in the Final Determination.

On May 5, 2014, the Court issued a remand order to the Department regarding the assignment of the 76.53 percent PRC-wide rate to Kehuaxing, which resulted from the Department's rejection of Kehuaxing's untimely filed quantity and value questionnaire response, and the Department's subsequent rejection of Kehuaxing's separate rate application.³ Pursuant to the Court's directive in the Remand Order, we requested and Kehuaxing timely provided these submissions for the record. We conducted a separate rate analysis and found that Kehuaxing demonstrated the absence of both de jure and de facto government control over its export activities and is thus eligible for a separate rate.⁴

³ See Artisan Mfg. Corp. v. United States, 978 F. Supp. 2d 1334 (Ct. Int'l Trade 2014) (“Remand Order”).

⁴ See Final Results Of Redetermination Pursuant To Court Remand, Artisan Manufacturing Corp. v. United States, Court No. 13-00169; Slip Op. 14-52 (CIT 2014), dated June 4, 2014, available at http://enforcement.trade.gov/remands/index.html.

Timken Notice

In its decision in Timken, 893 F.2d at 341, as clarified by Diamond Sawblades, the CAFC held that, pursuant to section 516A(e) of the Tariff Act of 1930, as amended (“the Act”), the Department must publish a notice of a court decision that is not “in harmony” with a Department determination and must suspend liquidation of entries pending a “conclusive” court decision. The CIT's June 27, 2014 judgment in this case constitutes a final decision of that court that is not in harmony with the Department's Final Determination. This notice is published in fulfillment of the publication requirements of Timken.

Amended Final Determination

Because there is now a final court decision with respect to this case, the Department is amending the Final Determination with respect to Kehuaxing's weighted-average dumping margin, effective July 7, 2014. The revised weighted-average dumping margin is as follows:

Exporter | Producer | Percent margin
Shenzen Kehuaxing Industrial Ltd | Shenzen Kehuaxing Industrial Ltd | 33.51%

Because no party appealed the CIT's decision before the period of appeal expired on August 26, 2014, the CIT's decision is now final and conclusive. Accordingly, the Department will instruct CBP to collect cash deposits for entries of subject merchandise exported and produced by Kehuaxing equal to the weighted-average dumping margin listed above, effective July 7, 2014, adjusted, where appropriate, for export subsidies and domestic subsidy pass-through offsets.

This notice is issued and published in accordance with sections 516A(e), 751(a)(1), and 777(i)(1) of the Act.

Dated: October 14, 2014.
Paul Piquado,
Assistant Secretary for Enforcement and Compliance.

[FR Doc. 2014-25209 Filed 10-21-14; 8:45 am]

BILLING CODE P